DEPARTMENT OF TRANSPORTATION

Maritime Administration

[Docket No. MARAD-2007-26848]

Information Collection Available for Public Comments and Recommendations

ACTION: Notice and request for comments.

SUMMARY: In accordance with the Paperwork Reduction Act of 1995, this notice announces the Maritime Administration's (MARAD's) intention to request approval for three years of a new information collection.

DATES: Comments should be submitted on or before March 19, 2007.

FOR FURTHER INFORMATION CONTACT: Richard Walker, Maritime Administration, MAR-810, 400 Seventh St., SW.,Washington, DC 20590. Telephone: 202-366-8888, Fax: 202-366-6988; or E-Mail: Richard.walker@dot.gov. Copies of this collection also can be obtained from that office.

SUPPLEMENTARY INFORMATION: Title of Collection: Marine Port and Terminal Infrastructure Data.

Type of Request: New Collection.

OMB Control Number: 2133-New.

Form Numbers: Marine Terminal Operator Survey (Unnumbered), Marine Port Survey (Unnumbered), and Marine Terminal Company Survey (Unnumbered).

Expiration Date of Approval: Three years from date of approval by the Office of Management and Budget.

Summary of Collection Information: The Port and Terminal Infrastructure Data Collection Survey will provide MARAD with key U.S. marine terminal data to enable the agency to provide timely information to determine the present level of system performance and future requirements.

Need and Use of the Information: This biennial survey will assist MARAD in determining the number and type of facilities available for moving cargo. Emphasis will be on throughput capacity and the adequacy of the number and type of terminals available to move cargo efficiently through the U.S. global freight transportation system. The survey will also provide an overview of ownership of marine terminals in the United States.

Description of Respondents: U.S. port authorities, marine terminal operators and owners of marine terminal companies.

Annual Responses: 581.

Annual Burden: 872 hours.

Comments: Comments should refer to the docket number that appears at the top of this document. Written comments may be submitted to the Docket Clerk, U.S. DOT Dockets, Room PL-401, 400 Seventh Street, SW., Washington, DC 20590. Comments may also be submitted by electronic means via the Internet at http://dms.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.dms.dot.gov.

(Authority: 49 CFR 1.66)

Dated: January 11, 2007.
By Order of the Maritime Administrator.
Daron T. Threet,
Secretary, Maritime Administration.

[FR Doc. E7-595 Filed 1-17-07; 8:45 am]

BILLING CODE 4910-81-P